FEDERAL LABOR RELATIONS AUTHORITY

5 CFR Part 2424

Negotiability Proceedings, Reopening of Comment Period

AGENCY: Federal Labor Relations Authority.

ACTION: Proposed rule; reopening of comment period.

SUMMARY: The Federal Labor Relations Authority (FLRA) is reopening the comment period for its proposed rule concerning Negotiability Proceedings for an additional 14 days. The original comment period ended on January 22, 2020.

DATES: The comment period for the proposed rule published December 23, 2019, at 84 FR 70439, is reopened. Written comments must be received on or before February 11, 2020.

ADDRESSES: You may send comments, which must include the caption “Negotiability Proceedings,” by one of the following methods:

• Email: FedRegComments@flra.gov. Include “Negotiability Proceedings” in the subject line of the message.

• Mail or Hand Delivery: Emily Sloop, Chief, Case Intake and Publication, Federal Labor Relations Authority, Docket Room, Suite 200, 1400 K Street NW, Washington, DC 20424-0001.

Instructions: If you previously submitted comments during the original comment period, you do not need to submit those same comments again. Further, please do not email comments if you mail or hand deliver the same comments.

FOR FURTHER INFORMATION CONTACT: Rebecca Osborne, Deputy Solicitor, at rosborne@flra.gov or at: (202) 218-7986.

SUPPLEMENTARY INFORMATION: On December 23, 2019, the FLRA requested comments on a proposed rule, published at 84 FR 70439, to revise the regulations governing negotiability appeals in order to better expedite proceedings. The original comment period for the proposed rule ended on January 22, 2020. Relatedly, in Case No. 0-PS-35, the FLRA issued a decision that referred to forthcoming revisions to the regulations governing negotiability appeals. To provide interested parties a further opportunity to comment about all of the issues addressed in the proposed rule, including the issues raised in Case No. 0-PS-35, the FLRA is reopening the comment period for an additional 14 days. Parties should refer to the proposed rule, at 84 FR 70439, for further details about the issues under consideration.

Approved: January 22, 2020.
Colleen Duffy Kiko,
Chairman, Federal Labor Relations Authority.

[FR Doc. 2020-01359 Filed 1-27-20; 8:45 am]

BILLING CODE 6727-01-P